ENVIRONMENTAL PROTECTION AGENCY

[EPA-R09-OAR-2021-0629; FRL 9252-01-R9]

Final Agency Action To Issue a Prevention of Significant Deterioration Non-Applicability Determination for the AltAir Renewable Fuels Project

AGENCY: Environmental Protection Agency (EPA).

ACTION: Notice of final agency action.

SUMMARY: This notice announces that the Environmental Protection Agency (EPA) issued a final agency action for a Clean Air Act Prevention of Significant Deterioration (PSD) Non-Applicability Determination to AltAir Paramount, LLC (“AltAir”), for its Renewable Fuels Project in California's South Coast Air Basin. AltAir plans to convert the remainder of the existing Paramount Crude Oil Refinery into a renewable fuels facility. As part of this Renewable Fuels Project, existing equipment will be re-used and re-purposed, new equipment will be installed, unneeded equipment will be eliminated or permanently idled, and project upgrades to existing equipment will be made to improve efficiencies and reduce operational emissions. In its Non-Applicability Determination, the EPA determined that the Renewable Fuels Project will not result in a major PSD modification.

DATES: The PSD Non-Applicability Determination issued on November 3, 2021, was a final agency action. Pursuant to section 307(b)(1) of the Clean Air Act, 42 U.S.C. 7607(b)(1), judicial review of this final agency action may be sought by filing a petition for review in the United States Court of Appeals for the Ninth Circuit within 60 days of December 13, 2021.

ADDRESSES: The EPA has established a docket for this action under Docket ID No. EPA-R09-OAR-2021-0629. Publicly available docket materials, including the determination letter and supporting documentation, are available through https://www.regulations.gov, or by contacting the person identified in the FOR FURTHER INFORMATION CONTACT section.

FOR FURTHER INFORMATION CONTACT: La Weeda Ward, Permits Office (Air-3-1), U.S. Environmental Protection Agency, Region 9, (213) 244-1812, ward.laweeda@epa.gov.

SUPPLEMENTARY INFORMATION:

Notice of Final Action

On November 3, 2021, EPA notified AltAir that based on EPA's review of AltAir's PSD Applicability Evaluation, the Renewable Fuels Project is not a major modification that requires a PSD permit under 40 CFR 52.21.

Dated: November 10, 2021.
Elizabeth Adams,
Acting Regional Administrator Region IX.

[FR Doc. 2021-26670 Filed 12-10-21; 8:45 am]

BILLING CODE 6560-50-P